DEPARTMENT OF COMMERCE

International Trade Administration

[A-570-985]

Xanthan Gum From the People's Republic of China: Rescission of 2014-2015 Antidumping Duty New Shipper Review

AGENCY: Enforcement and Compliance, International Trade Administration, Department of Commerce.

SUMMARY: The Department of Commerce (“Department”) finds that the sale made by Inner Mongolia Jianlong Biochemical Co., Ltd. (“IMJ”) is a non-bona fide sale. Therefore, we are rescinding this new shipper review (“NSR”).

DATES: Effective August 22, 2016.

FOR FURTHER INFORMATION CONTACT: Patrick O'Connor, AD/CVD Operations, Office IV, Enforcement and Compliance, International Trade Administration, Department of Commerce, 1401 Constitution Avenue NW., Washington, DC 20230; telephone: (202) 482-0989.

SUPPLEMENTARY INFORMATION:

Background

The Department published its Preliminary Results in this NSR on March 22, 2016.¹ Subsequently, IMJ filed a case brief on May 15, 2016 and CP Kelco U.S. (Petitioner) filed a rebuttal brief on May 16, 2016.

¹ See Xanthan Gum From the People's Republic of China: Preliminary Rescission of 2014-2015 Antidumping Duty New Shipper Review, 81 FR 15240 (March 22, 2016) (“Preliminary Results”); see also Memorandum to Abdelali Elouaradia, Director, Office IV, AD/CVD Operations, from Cara Lofaro and Brandon Farlander, International Trade Analysts, entitled “2014-2015 Antidumping Duty New Shipper Review of Xanthan Gum From the People's Republic of China: Preliminary Bona Fide Sales Analysis for Inner Mongolia Jianlong Biochemical Co., Ltd.,” dated March 15, 2016.

Scope of the Order

The scope of the order covers dry xanthan gum, whether or not coated or blended with other products. Further, xanthan gum is included in this order regardless of physical form, including, but not limited to, solutions, slurries, dry powders of any particle size, or unground fiber. Merchandise covered by the scope of this order is classified in the Harmonized Tariff Schedule (“HTS”) of the United States at subheading 3913.90.20. This tariff classification is provided for convenience and customs purposes; however, the written description of the scope is dispositive.²

² For a complete description of the scope of the order, see the Memorandum from Christian Marsh, Deputy Assistant Secretary for Antidumping and Countervailing Operations, to Paul Piquado, Assistant Secretary for Enforcement and Compliance, entitled “Issues and Decision Memorandum for the Final Results of the Antidumping Duty New Shipper Review of Xanthan Gum from the People's Republic of China” issued concurrently with and hereby adopted by this notice (“Issues and Decision Memorandum”).

Analysis of Comments Received

All issues raised in the case and rebuttal briefs by parties are addressed in the Issues and Decision Memorandum.³ The Issues and Decision Memorandum is a public document and is on file electronically via Enforcement and Compliance's Antidumping Duty and Countervailing Duty Centralized Electronic Service System (ACCESS). ACCESS is available to registered users at http://access.trade.gov and in the Central Records Unit, Room B8024 of the main Department of Commerce building. In addition, a complete version of the Issues and Decision Memorandum can be accessed directly at http://enforcement.trade.gov/frn/index.html. The signed Issues and Decision Memorandum and the electronic version of the Issues and Decision Memorandum are identical in content. A list of the issues which parties raised is attached to this notice as an Appendix.

³ Id.

Rescission of New Shipper Review

For the reasons explained in the Issues and Decision Memorandum, the Department continues to find that IMJ's one sale is a non-bona fide sale. Because the non-bona fide sale was the only reported sale of subject merchandise during the POR, and thus there are no reviewable transactions, the Department is rescinding this NSR.

Assessment

As the Department is rescinding this NSR, we have not calculated a company-specific dumping margin for IMJ. IMJ remains part of the PRC-wide entity and, accordingly, entries of its subject merchandise will be assessed at the PRC-wide rate.

Cash Deposit Requirements

Effective upon publication of this notice of final rescission of the NSR of IMJ, the Department will instruct U.S. Customs and Border Protection to discontinue the option of posting a bond or security in lieu of a cash deposit for entries of subject merchandise from IMJ. IMJ continues to be part of the PRC-wide entity, and subject to the PRC-wide entity rate of 154.07 percent.⁴ These cash deposit requirements shall remain in effect until further notice.

⁴ See Xanthan Gum From the People's Republic of China: Amended Final Determination of Sales at Less Than Fair Value and Antidumping Duty Order, 78 FR 43143 (July 19, 2013).

Administrative Protective Order

This notice also serves as a reminder to parties subject to Administrative Protective Order (“APO”) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a violation which is subject to sanction.

We are issuing and publishing this notice in accordance with sections 751(a)(2)(B) and 777(i) of the Tariff Act of 1930, as amended, and 19 CFR 351.214.

Dated: August 12, 2016.
Paul Piquado,
Assistant Secretary for Enforcement and Compliance.

Appendix—Issues and Decision Memorandum

Summary

Background

Scope of the Order

Discussion of the Issues:

Comment 1: Whether IMJ Met the Regulatory Requirements for Requesting a New Shipper Review

Comment 2: Whether or not IMJ's Sale was a Bona Fide Sale

Comment 3: IMJ's March 24, 2016 Submission

Recommendation

[FR Doc. 2016-20014 Filed 8-19-16; 8:45 am]

BILLING CODE 3510-DS-P